OFFICE OF PERSONNEL MANAGEMENT

SES Performance Review Board

AGENCY: Office of Personnel Management.

ACTION: Notice.

SUMMARY: Notice is hereby given of the appointment of members of the OPM Performance Review Board.

FOR FURTHER INFORMATION CONTACT: Mark Reinhold, Office of Human Resources and EEO, Office of Personnel Management, 1900 E Street NW., Washington, DC 20415, (202) 606-1882.

SUPPLEMENTARY INFORMATION: Section 4314(c)(1) through (5) of Title 5, U.S.C., requires each agency to establish, in accordance with regulations prescribed by the Office of Personnel Management, one or more SES performance review boards. The board reviews and evaluates the initial appraisal of a senior executive's performance by the supervisor, and considers recommendations to the appointing authority regarding the performance of the senior executive.

Office of Personnel Management.
Kay Coles James,
Director.

The following have been designated as regular members of the Performance Review Board of the Office of Personnel Management:

Paul T. Conway, Chief of Staff—Chair Steven R. Cohen, Senior Advisor to the Director Richard A. Ferris, Associate Director, Investigations Service William E. Flynn, Associate Director, Retirement and Insurance Service

John C. Gartland, Director, Office of Congressional Relations Teresa M. Jenkins, Director, Office of Workforce Relations Mark A. Robbins, General Counsel Ronald P. Sanders, Chief of Human Resources, Internal Revenue Service

[FR Doc. 01-29984 Filed 12-3-01; 8:45 am]

BILLING CODE 6325-45-P